DEPARTMENT OF ENERGY

National Energy Technology Laboratory; Notice of Availability of a Financial Assistance Solicitation

AGENCY: National Energy Technology Laboratory (NETL), Department of Energy (DOE).

ACTION: Notice of availability of a financial assistance solicitation.

SUMMARY: Notice is hereby given of the intent to issue Financial Assistance Solicitation No. DE-PS26-03NT41718 entitled “Large Scale Mercury Control Field Testing Program”. The DOE/NETL is seeking applications to conduct long-term (minimum of two-to-four months at optimum process conditions) field testing of advanced mercury control technologies to (1) verify technology performance in terms of total (50-80%+ based on coal type, equipment, etc.) and speciated mercury removal relative to changes in load and coal-mercury concentration for all coal types (including blends) but emphasizing high-elemental, low rank coals, (2) determine realistic process/equipment costs for various levels of mercury removed for a variety of equipment configurations focusing on smaller surface collection area (SCA) electrostatic precipitators (SCA <300 ft²/ thousand actual cubic feet of flue-gas) for bituminous coals, (3) determine mercury removal levels for blends of different rank coals including subbituminous/high-sulfur bituminous; (4) quantify balance-of-plant (BOP) impacts such as Electro-Static Precipitator (ESP) performance, baghouse performance and bag life, byproduct contamination, corrosion, parasitic load, etc.; and (5) measure and assess potential multiple pollutant or co-control associated with mercury control technology.

In addition, several semi-continuous emission monitors (S-CEMS) would be used to monitor variations in mercury content of flue gas and track technology performance while collecting high quality inlet/outlet mercury speciation data with Ontario Hydro measurements at the beginning, middle and end of each test campaign (plus additional measurements as needed to verify S-CEM results). Tests of by-products may be limited to characterization tests (foaming index, etc.) but collection of enough samples would be obtained for other programs to conduct more detailed or extensive tests, and measurement of mercury in all streams (including water) to seek closure on mercury balances.

DATES: The solicitation will be available on the DOE/NETL's Internet address at http://www.netl.doe.gov/business and on the “Industry Interactive Procurement System” (IIPS) webpage located at http://e-center.doe.gov on or about December 30, 2002.

FOR FURTHER INFORMATION CONTACT: Martin J. Byrnes, U.S. Department of Energy, National Energy Technology Laboratory, P.O. Box 10940, MS 921-107, Pittsburgh, PA 15236, E-mail Address: byrnes@netl.doe.gov, Telephone Number: 412-386-4486.

SUPPLEMENTARY INFORMATION: NETL held two workshops (in June and September 2002) with key stakeholders from the utility industry, government agencies, research organizations, and academia to obtain input on the content and structure of future mercury research and development. A summary of the workshop proceedings can be found at http://www.netl.doe.gov/coalpower/environment. The workshop participants identified a number of different configurations and technologies that need further long-term testing.

In response, DOE-NETL is issuing a solicitation focused on four major areas that are expected to be important in developing mercury control strategies for the coal-fired electric utility industry and help ensure the continued availability of low-cost electricity from coal while meeting growing air quality demands. Details concerning the solicitation are described below (with allowable scale of testing described in Table 1). Topic Area 1 would focus on sorbent injection technology, Topic Area 2 would cover technologies aimed at wet flue-gas desulfurization enhancement, Topic Area 3 would seek proposals offering oxidation systems and Topic Area 4 would allow for any technologies ready for long-term field-testing. The solicitation supports the overall goal of the Department of Energy/Office of Fossil Energy's Innovations for Existing Plants (IEP) Program to develop advanced technology and knowledge products that enhance the environmental performance of the existing fleet of coal-fired power plants. The four Areas of Interest for this solicitation are:

Topic 1: Field Testing of Activated Carbon/Sorbents Upstream/Downstream of Existing Utility Particulate Control Devices for Bituminous and Low Rank Coals (Powder River Basin and Lignite).

Topic 2: Field Testing of Effective Mercury Control Technologies Upstream of and Across Wet Flue Gas Desulfurization Systems.

Topic 3: Field Testing of Non-Sorbent Based Concepts for Increasing the Oxidation of Elemental Mercury for Removal in Downstream Air Pollution Control Equipment.

Topic 4: Other Mercury Control Technologies Ready for Long-Term Field-Testing.

Table 1.—Topic Area Matrix
Topic area No. | Topic area | Coal type/existing equipment configuration | Scale of testing
1 | Sorbent Injection | Bituminous—SCA <300 CSESP/HSESP Lignite/Sub-bituminous—ESP/FF (or COHPAC) (no SCA limit) Coal Blends—no SCA limit) | 1.
2 | FGD Enhancement | All coals types or blends with wet FGD. | 1.
3 | Oxidation Systems | All coals or blends applicable to plants with or without wet FGD | 1 or 2.
4 | Other | All coals individually or blends and all existing equipment configurations | 1 or 2.
1. Full-scale (minimum 100 MWe).
2. Slip-stream (minimum 10 MWe).

Scale of Testing

DOE anticipates allocating $1.5 million or less in cost sharing per test site. DOE recognizes that certain mercury control technologies proposed for full-scale testing may require significant outlays for capital equipment in order to be tested. Given that the funding available for this solicitation is limited and is to be used primarily for testing and evaluation of the performance of the proposed technology and not for the purchase of equipment, DOE is allowing for slip-stream testing of technologies under Topic Areas 3 and 4. However, if the offeror wants to test at full scale, then they would be required to cover the additional costs above DOE threshold of $1.5 million per test site (or 75% cost sharing, whichever is less). DOE anticipates that funds will be approximately allocated as 2/3 to full-scale testing and 1/3 to pilot-scale testing.

It is anticipated that there will be 9-12 Financial Assistance (Cooperative Agreements) awards with performance periods ranging from 12-42 months. The total estimated Award Value for all projects awarded under this solicitation is estimated at $19-$25 million with total federal funding anticipated between $15-$20 million with a required recipient cost sharing of 25% of total cost.

Eligibility for participation in this Program Solicitation is considered to be full and open. All interested parties may apply. The solicitation will contain a complete description of the evaluation factors and the relative importance of each factor. Applications submitted by or on behalf of (1) Another Federal agency; (2) a Federally Funded Research and Development Center sponsored by another Federal agency; or (3) a Department of Energy (DOE) Management Operating (M&O) contractor will not be eligible for award under this solicitation. However, an application that includes performance of a portion of the work by a DOE M&O contractor will be evaluated and may be considered for award subject to the provisions to be set forth in Program Solicitation DE-PS26-03NT41718.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA November 28, 2002.
Richard D. Rogus,
Acting Director, Acquisition and Assistance Division.

[FR Doc. 02-31202 Filed 12-10-02; 8:45 am]

BILLING CODE 6450-01-P